DEPARTMENT OF TRANSPORTATION

Federal Motor Carrier Safety Administration

Office of Research and Technology Forum

AGENCY: Federal Motor Carrier Safety Administration (FMCSA), DOT.

ACTION: Notice of meeting/forum.

SUMMARY: This notice invites interested persons to participate in a forum sponsored by the FMCSA Office of Research and Technology for the purpose of: Sharing information regarding the FMSCA new research approach; Learning how to establish partnerships with the agency's Office of Research and Technology on future projects; and Providing information on the accomplishments of the Research and Technology Office since last year's Transportation Research Board (TRB) Annual Meeting.

Where: Marriott Wardman Park Hotel, in the Delaware Room, 2660 Woodley Road, NW., Washington, DC 20008.

When: Sunday, January 12, 2003, from 7:30 a.m. to 12:30 p.m.

Registration: To register for the forum and obtain more detailed information, you may visit the FMCSA R&T Forum Web site at: http://www.fmcsa.dot.gov/rtforum; or call (202) 493-0442.

FOR FURTHER INFORMATION CONTACT: Mr. Albert Alvarez, Office of Research and Technology (MC-RTR), Federal Motor Carrier Safety Administration, 400 Virginia Avenue, SW., Washington, DC 20024; telephone (202) 358-5684 or e-mail albert.alvarez@fhwa.dot.gov. Office hours are from 8 a.m. to 4:30 p.m., E.S.T., Monday through Friday, except Federal holidays.

SUPPLEMENTARY INFORMATION: Forum attendees will receive a Continental Breakfast and a Information Packet. The forum is open to the public, but will be limited to the space available. If you are planning to attend this forum, you must register online at: http://www.fmcsa.dot.gov/rtforum, or call (202) 493-0442 by December 20, 2002. Individuals needing special accommodations (sign, reader, etc.), please call Joanice Cole at (202) 334-2287, or e-mail jcole@nas.edu by December 20, 2002.

Note: If you are planning to attend the TRB Annual Meeting, you must register separately for it at: http://www4.trb.org/trb/annual.nsf.

Issued on: November 25, 2002.
Brian M. McLaughlin,
Associate Administer for Policy and Program Development.

[FR Doc. 02-30312 Filed 11-27-02; 8:45 am]

BILLING CODE 4910-EX-P